DEPARTMENT OF EDUCATION

President's Board of Advisors on Historically Black Colleges and Universities

AGENCY: Office of Undersecretary, President's Board of Advisors on Historically Black Colleges and Universities, U.S. Department of Education.

ACTION: Announcement of an open meeting.

SUMMARY: This notice sets forth the agenda for the June 13, 2019, meeting of the President's Board of Advisors on Historically Black Colleges and Universities (PBA) and provides information to members of the public about the meeting. Notice of the meeting is required by § 10(a)(2) of the Federal Advisory Committee Act and is intended to notify the public of its opportunity to attend. This notice is being posted less than 15 calendar days due to significant logistical challenges in securing an appropriate meeting venue.

DATES: The PBA meeting will be held on June 13, 2019, from 10:00 a.m. to 2:00 p.m. E.D.T. at the U.S. Department of Education, 400 Maryland Avenue SW, Barnard Auditorium, Washington, DC 20202.

FOR FURTHER INFORMATION CONTACT: Sedika Franklin, Designated Federal Official, U.S. Department of Education, White House Initiative on Historically Black Colleges and Universities, 400 Maryland Avenue SW, Washington, DC 20202; telephone: (202) 453-5634 or (202) 453-5630, or email sedika.franklin@ed.gov.

SUPPLEMENTARY INFORMATION:

PBA's Statutory Authority and Function: The PBA is established by Executive Order 13779 (February 28, 2017) and is continued by Executive Order 13811 (September 29, 2017). The PBA is governed by the provisions of the Federal Advisory Committee Act (FACA) (5 U.S.C. App. 2) which sets forth standards for the formation and use of advisory committees. The purpose of the PBA is to advise the President, through the White House Initiative on Historically Black Colleges and Universities (Initiative), on all matters pertaining to strengthening the educational capacity of Historically Black Colleges and Universities (HBCUs).

The PBA shall advise the President in the following areas: (i) Improving the identity, visibility, and distinctive capabilities and overall competitiveness of HBCUs; (ii) engaging the philanthropic, business, government, military, homeland-security, and education communities in a national dialogue regarding new HBCU programs and initiatives; (iii) improving the ability of HBCUs to remain fiscally secure institutions that can assist the nation in reaching its goal of having the highest proportion of college graduates by 2020; (iv) elevating the public awareness of HBCUs; and (v) encouraging public-private investments in HBCUs.

Meeting Agenda: The meeting agenda will include, welcoming remarks; a discussion of the PBA's function and mission; federal presentations; and group discussion. The public comment period will begin immediately following the conclusion of the federal reports.

Members of the public who wish to listen to the meeting via telephone may dial (202) 991-0393, 55000552#.

Members of the public who wish to attend the meeting in person must submit an RSVP by email to the whirsvps@ed.gov mailbox. RSVPs must be received by close of business on June 11, 2019. In the subject line of the email, insert “Meeting RSVP: President's Board of Advisors on Historically Black Colleges and Universities.” The email must include the name(s), title, organization/affiliation, mailing address, email address, and telephone number, of the person(s) requesting to attend.

Submission of Requests to Make an Oral Comment: There are two methods the public may use to provide an oral comment pertaining to the work of the PBA at the June 13, 2019 meeting.

Method One: Submit a request by email to the whirsvps@ed.gov mailbox. Please do not send materials directly to PBA members. Requests must be received by June 11, 2019. In the subject line of the email request insert “Oral Comment Request: (Organization Name).” The email must include the name(s), title, organization/affiliation, mailing address, email address, telephone number, of the person(s) requesting to speak, and a brief summary (not to exceed one page) of the principal point(s) to be made. All individuals submitting an advance request in accordance with this notice will be afforded an opportunity to speak for three minutes during the public comment period.

Method Two: Register at the meeting location on June 13, 2019, to make an oral comment during the public comment period. The requestor must provide his or her name, title, organization/affiliation, mailing address, email address, and telephone number. Individuals will be selected on a first-come, first-served basis. If selected, each commenter will have an opportunity to speak for three minutes.

All oral comments made will become part of the official record of the PBA. Similarly, written materials distributed during oral presentations will become part of the official record of the meeting.

Submission of Written Comments: Members of the public may submit written comments, which will be read during the public comment segment of the meeting. Written comments received by June 11, 2019, in the whirsvps@ed.gov mailbox will be read during the meeting. In the subject line insert “Written Comments: Public Comment.” The email must include the name(s), title, organization/affiliation, mailing address, email address, and telephone number, of the person(s) submitting the comment. Written comments should be submitted as a Microsoft Word document or in a medium compatible with Microsoft Word (not a PDF file) that is attached to an electronic mail message email) or provided in the body of an email message. Please do not send material directly to PBA members. In general, written comments pertaining to the work of the PBA may be sent to oswhi-hbcu@ed.gov.

Access to Records of the Meeting: The Department will post the official transcript of the meeting on the PBA website 90 days after the meeting at www.ed.gov. Pursuant to the Federal Advisory Committee Act (FACA), the public may also inspect the materials at 400 Maryland Avenue SW, Washington, DC, by emailing oswhi-hbcu@ed.gov or by calling (202) 453-5634 to schedule an appointment.

Reasonable Accommodations: The meeting site is accessible to individuals with disabilities. If you will need an auxiliary aid or service to participate in the meeting (e.g., interpreting service, assistive listening device, or materials in an alternate format), notify the contact person listed in this notice by June 6, 2019. We will attempt to meet all requests received by the due date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Executive Order 13779, continued by Executive Order 13811.

Diane Auer Jones,
Principal Deputy Under Secretary delegated the duties of Under Secretary and Assistant Secretary for Postsecondary Education.

[FR Doc. 2019-11730 Filed 6-4-19; 8:45 am]

BILLING CODE P